DEPARTMENT OF STATE

[Public Notice 5390]

Industry Advisory Panel: Meeting Notice

The Industry Advisory Panel of the Overseas Buildings Operations will meet on Thursday, June 15, 2005 from 9:45 a.m. until 3:30 p.m. Eastern Standard Time. The meeting will be held at the Department of State, 2201 C Street, NW., (entrance on 23rd Street), Room 1105, Washington, DC. The majority of the meeting is devoted to an exchange of ideas between the Department's Bureau of Overseas Buildings Operations' senior management and the panel members, on design, operations and building maintenance. Members of the public are asked to kindly refrain from joining the discussion until Director Williams opens the discussion to the public.

Due to limited seating space for members of the public, we ask that you kindly email your information. To participate in this meeting, simply register by e-mail at IAPR@STATE.GOV before June 8, 2006.

To register for the meeting, e-mail IAPR@STATE.GOV, mailto:IAPR@STATE.GOV, prior to June 8, 2006. Your response should include your date of birth and social security number, which will be used by Diplomatic Security to issue a temporary pass to enter the building. If you have any questions, please contact PinzinoLE3@state.gov, mailto:PinzinoLE3@state.gov, (Gina Pinzino—tel: 703/875-6872 or Andrea Specht at SpechtAM@state.gov at 703-516-1544.)

Charles E. Williams,
Director & Chief Operating Officer, Overseas Buildings Operations, Department of State.

[FR Doc. E6-7033 Filed 5-8-06; 8:45 am]

BILLING CODE 4710-24-P